DEPARTMENT OF THE INTERIOR

National Park Service

[NPS-WASO-NRSS-SSD-14130; PPWONRADC0, PPMRSNR1N.NM0000]

Information Collection Activities: Visitor Perceptions of Climate Change in U.S. National Parks

AGENCY: National Park Service (NPS), Interior.

ACTION: Notice; request for comments.

SUMMARY: We, (National Park Service), will ask the Office of Management and Budget (OMB) to approve the Information Collection (IC) described below. This collection will consist of a single survey instrument that will be administered through the National Park System. As required by the Paperwork Reduction Act of 1995, and as part of our continuing efforts to reduce paperwork and respondent burden, we invite the general public and other Federal agencies to take this opportunity to comment on this IC. The PRA (44 U.S.C. 3501, et seq.) provides that we may not conduct or sponsor and a person is not required to respond to a collection of information unless it displays a currently valid OMB control number.

DATES: To ensure that your comments on this IC are considered, we must receive them on or before November 22, 2013.

ADDRESSES: Please send your comments to Phadrea Ponds, Information Collections Coordinator, National Park Service, 1201 Oakridge Drive, Fort Collins, CO 80525 (mail); or phadrea_ponds@nps.gov (email). Please reference Information Collection 1024-NEW, Visitor Perceptions of Climate Change in U.S. National Parks in the subject line.

FOR FURTHER INFORMATION CONTACT: Angie Richman, Communication Specialist, Climate Change Response Program, at 1201 Oakridge Drive, Suite 200, Fort Collins, CO 80525 (mail) or angie_richman@nps.gov (email).

SUPPLEMENTARY INFORMATION:

I. Abstract

The National Park Service (NPS) Units are valuable public spaces that serve many purposes including providing recreational opportunities and protecting our nations natural and cultural resources. In order to continue to preserve scenery, natural landscapes, and historic objects, it is important for NPS staff and visitors to understand the various benefits of and challenges to NPS units. Furthermore, it is also important to discuss what can be done within and outside the parks to preserve these benefits for future generations.

As per the NPS Climate Change Action Plan, the NPS is seeking to promote resource stewardship and public understanding of how climate change will impact the National Park units. Data on how to best meet these objectives is needed to ensure public outreach and communication materials are well received and effective. The results of this study will provide NPS staff with recommendations and tools to effectively communicate climate related impacts in national parks and how the NPS is taking action to address these impacts. A questionnaire will be used to assess visitors' responses to climate change messages at thirty parks across the country.

II. Data

OMB Control Number: XXXX-New.

Title: Visitor Perceptions of Climate Change in US National Parks.

Type of Request: NEW.

Description of Respondents: Individual.

Respondent's Obligation: Voluntary.

Frequency of Collection: One time.

Estimated Number of Responses: 9,000. We estimate an average of 300 responses per park, across 30 parks.

Annual Burden Hours: 1,500 hours. We estimate an average of 10 minutes per response.

Estimated Reporting and Recordkeeping “Non-Hour Cost” Burden: None.

III. Request for Comments

We invite comments concerning this IC on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 18, 2013.
Madonna L. Baucum,
Information Collection Clearance Officer, National Park Service.

[FR Doc. 2013-23061 Filed 9-20-13; 8:45 am]

BILLING CODE 4310-EH-P